DEPARTMENT OF HOUSING AND URBAN DEVELOPMENT

[Docket No. FR-7051-N-03]

60 Day Notice of Proposed Information Collection: Standardization Form for “Race and Other Demographic Data Reporting Form—HUD 27061” OMB Control No.: 2535-0113

AGENCY: Office of Strategic Planning and Management, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 28, 2022.

ADDRESSES: Interested persons are invited to submit comments regarding this proposal. Comments should refer to the proposal by name and/or OMB Control Number and should be sent to Colette Pollard, Reports Management Officer, REE, Department of Housing and Urban Development, 451 7th Street SW, Room 4176, Washington, DC 20410-5000; telephone 202-402-3400 (this is not a toll-free number) or email at Colette.Pollard@hud.gov for a copy of the proposed form. Persons with hearing or speech impairments may access this number through TTY by calling the toll-free Federal Relay Service at (800) 877-8339.

Electronic Submission of Comments. Interested persons may also submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the methods specified above. Again, all submissions must refer to the docket number and title of the notice.

FOR FURTHER INFORMATION CONTACT: Dorthera Yorkshire, Office of the Chief Financial Officer, Grants Management and Oversight Division, Department of Housing and Urban Development, 451 Seventh St. SW, Room 10162, Washington, DC 20410 or by email Dorthera.Yorkshire@hud.gov or telephone 202-402-4336. This is not a toll-free number. Persons with hearing or speech impairments may access this number through TTY by calling the toll-free Federal Relay Service at (800) 877-8339.

Copies of the proposed data collection form may be requested from Ms. Pollard.

SUPPLEMENTARY INFORMATION: This notice informs the public that the Department is soliciting comments prior to submitting the proposed information collection to OMB for review, as required by the Paperwork Reduction Act of 1995 (44 U.S.C. chapter 35, as amended). HUD is seeking approval from OMB for the information collection described in Section A.

A. Overview of Information Collection

Title of Proposal: Standardization form for “Race and Other Demographic Data Reporting Form.”

Type of Request: Renewal of a currently approved collection.

OMB Control Number, if applicable: 2535-0113.

Form Numbers: HUD 27061.

Description of the need for the information and proposed use: All HUD program offices use this form when collecting information concerning the race, ethnicity, and other protected class data of the populations intended to benefit from HUD funding as required by Title VI of the Civil Rights Act of 1964; the Fair Housing Act; and HUD's regulations.

Members of affected public: Applicants for HUD's competitively funded financial assistance programs that are subject to Title VI of the Civil Rights Act of 1964 and the Fair Housing Act.

Estimation of the total numbers of hours needed to prepare the information collection including number of respondents, frequency of response, and hours of response: The form is used by entities when they apply for grants. As HUD receives roughly 14,375 applications on an annual basis, we expect that there will be 14,375 respondents who may need to use this form. HUD estimates that it will take half an hour to complete the form, at $65.15 per hour.¹ The total estimated burden on respondents would thus reach $561,918 on an annual basis. This is shown in Table 1.

¹ Estimated cost for respondents is calculated from the March 2022 Department of Labor Bureau of Labor Statistics report on Employer Costs for Employee Compensation determined that the hourly rate of management, professional and related wages and salaries averaged $44.28 per hour plus $20.87 per hour for fringe benefits for a total $65.15 per hour.

Table 1—Estimated Burden to Respondents
Form | Number of respondents | Frequency | Hours per Respondent | Total hours | Cost per hour | Total cost
27071 | 14,375 | 1.2 | 0.50 | 8,625 | 65.15 | $561,918.75

Estimation of the Cost to the Federal government: The following Table 2 shows the estimated burden of Federal financial assistance review. HUD estimates the cost of the maximum burden on HUD staff would total at most $561,918.75. This estimate is based on the assumption that each form would be reviewed for one hour by a GS13 step 5 performing a review, and then by a GS 14 and a GS15 who will look at summary results on an annual basis.²

² Federal staff time is estimated for a GS-13 step 5 hourly rate at $58.01 per hour (from the Office of Personnel Management and the table with Washington-Baltimore-Arlington locality pay), plus 16% fringe benefit for a total of $67.29 per hour, as well as 15 minutes each for a GS-14 step 5 at $72.19/hr and a GS-15 step 5 at $84.91/hr, based on similar calculations bringing the blended total to $106.57/hr for each form submitted.

Table 2—Estimated Burden to Government
Estimated respondents | Frequency | Estimated number of responses | Estimated burden hours per review | Estimated burden hours per year | Total estimated burden ²
14,375 | 1.2 | 17,250 | 0.50 | 8,625 | $561,918.75

B. Solicitation of Public Comment

This notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

In addition to the race and ethnicity data collected to comply with Title VI of the Civil Rights Act of 1964, HUD also intends to update this form to collect protected class data as required by the Fair Housing Act and HUD regulations at 24 CFR 121. HUD further solicits comments from members of the public and affecting agencies concerning the proposed collection of information on: (1) data sources available to support this collection; (2) particular data fields in HUD Form 27061 to appropriately collect this information; and (2) methods to minimize burden on grantees in collecting this information.

C. Authority

The Paperwork Reduction Act of 1995, 44 U.S.C. chapter 35, as amended.

George Tomchick,
Deputy Chief Financial Officer, Office of the Chief Financial Officer.

[FR Doc. 2022-20868 Filed 9-26-22; 8:45 am]

BILLING CODE 4210-67-P